DEPARTMENT OF THE INTERIOR

National Park Service

[NPS-WASO-NAGPRA-21731; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate federally recognized Indian tribes, and has determined that a cultural affiliation between the human remains and associated funerary objects and any present-day federally recognized Indian tribes cannot be reasonably traced. Representatives of any federally recognized Indian tribe not identified in this notice that wish to request transfer of control of these human remains and associated funerary objects should submit a written request to TVA. If no additional requestors come forward, transfer of control of the human remains and associated funerary objects to the federally recognized Indian tribe stated in this notice may proceed.

DATES: Representatives of any federally recognized Indian tribe not identified in this notice that wish to request transfer of control of these human remains and associated funerary objects should submit a written request with information in support of the request to TVA at the address in this notice by October 3, 2016.

ADDRESSES: Dr. Thomas O. Maher, TVA, 400 West Summit Hill Drive, WT11D, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from archeological sites in Madison and Lawrence Counties, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with the University of Alabama and representatives of the Alabama-Coushatta Tribe of Texas (previously listed as the Alabama-Coushatta Tribes of Texas); Alabama-Quassarte Tribal Town; Cherokee Nation; Coushatta Tribe of Louisiana; Eastern Band of Cherokee Indians; Choctaw Nation of Oklahoma; Eastern Shawnee Tribe of Oklahoma; Poarch Band of Creeks (previously listed as the Poarch Band of Creek Indians of Alabama); The Chickasaw Nation; The Muscogee (Creek) Nation; Thlopthlocco Tribal Town; and the United Keetoowah Band of Cherokee Indians in Oklahoma.

History and Description of the Remains

The sites listed in this notice were excavated as part of TVA's Wheeler Reservoir project by the Alabama Museum of Natural History (AMNH) at the University of Alabama, using labor and funds provided by the Works Progress Administration. Details regarding the excavations and sites may be found in reports, The Flint River Site, MA48, by William S. Webb and David L. DeJarnette, and An Archaeological Survey of Wheeler Basin on the Tennessee River in Northern Alabama, by William S. Webb. The human remains and associated funerary objects listed in this notice have been in the physical custody of the AMNH at the University of Alabama since excavation but are under the control of TVA.

From June to December 1938, human remains representing, at minimum, 242 individuals were removed from the Flint River site, 1MA48, in Madison County, AL. Excavation commenced after TVA acquired the two parcels of land encompassing 1MA48 on November 11, 1935, and July 3, 1936. Excavations revealed multiple occupations including during the Late Archaic (4000-1000 B.C.); Woodland Colbert (300 B.C. to A.D. 100), and Flint River (A.D. 500-1000) phases and the early Mississippian Langston phase (A.D. 900-1200). The human remains include adults, juveniles, children, and infants of both sexes. No known individuals were identified. The 2,572 associated funerary objects include 27 antler tools; 4 bone awls; 4 chert bifaces; 29 bone beads; 8 bone pins; 5 polished bone; 2 bone gorgets; 2 Hillabee Greenstone celts; 1 disk bead; 5 engraved turtle carapace fragments; 1 fired daub; 1 bone fishhook; 2 Flint Creek projectile points/knives; 2 freshwater pearl beads; 1 chert graver; 2 grooved stone abraders; 12 gastropod shell beads; 703 ground sandstone bowl sherds; 3 ground soapstone bowls; 5 ground soapstone bowl sherds; 1 hammerstone; 2 limestone hoes; 1 Ledbetter projectile point; 1 Mississippi Plain jar; 7 rodent mandible fragments; 4 McIntire projectile points; 2 Pickwick projectile points; 7 projectile points/knives; 1 shell-tempered ceramic pipe; 1,660 shell beads; 3 shell gorgets/pendants; 2 chert side scrappers; 1 Smithsonia projectile point; 3 bone spoon fragments; 1 Sykes projectile point; 1 steatite stone bead; 19 textile (cane) and bone fragments; 3 limestone tubular cones/pipes; 1 tubular sandstone cone/pipe; 31 turtle carapace fragments; 1 worked bone; and 1 worked shell.

From May to June 1934, human remains representing, at minimum, 49 individuals were removed from site 1LA13 in Lawrence County, AL. Excavation commenced after TVA purchased this land February 14, 1934. Site 1LA13 was one of the first sites excavated on TVA land in north Alabama. Information about the excavations is not abundant. Excavations revealed this site to be a burial mound. All the burials were considered inclusive to the mound, not intruded into it at a later date. An examination of the funerary objects excavated at this site indicates that this mound was created during the Hobbs Island phase (A.D. 1200-1500) of the Mississippian period. The human remains include adults, juveniles, and children of both sexes. No known individuals were identified. The 65 associated funerary objects include 2 Baytown Plain sherds; 2 Bell Plain bottles; 1 Bell Plain bowl; 7 Bell Plain sherds; 1 Crow Creek Noded jar; 5 Henry Island Plain sherds; 4 McKee Island Brushed sherds; 3 Mississippi Plain jars; 1 Mississippi Plain bowl; 38 Mississippi Plain sherds; and 1 Wheeler Check Stamped sherd.

On January 15, 1986, human remains representing, at minimum, one individual were removed from site 1MA141, near the Whitesburg bridge in Madison County, AL. During phase 2 testing of a potential wastewater pipeline corridor in the Huntsville area, human remains representing one 40-50 year old Native American were encountered. This phase 2 test took place on land TVA had purchased on July 6, 1936. Artifacts recovered from site 1MA141 indicate occupations during the Early and Late Archaic periods. No known individuals were identified. No associated funerary objects are present.

TVA determined that cultural affiliation between human remains and associated funerary objects excavated from sites 1MA48, 1MA141, and 1LA13 and any present-day federally recognized tribes cannot be reasonably traced. Accordingly, these items are culturally unidentifiable, and TVA intends to transfer control of these items pursuant to 43 CFR 10.11(c).

At the time of the excavation and removal of these human remains and associated funerary objects, the land from which the human remains and objects were removed was not the tribal land of any federally recognized Indian tribe. On March 10, 2016, TVA consulted with all federally recognized Indian tribes who are recognized as aboriginal to the area from which these Native American human remains and associated funerary objects were removed. These tribes are the Cherokee Nation, Eastern Band of Cherokee Indians, and the United Keetoowah Band of Cherokee Indians in Oklahoma. None of these Indian tribes agreed to accept control of the human remains and associated funerary objects. After further consultation with the parties that were a part of this overall consultation, TVA has decided to transfer control of the human remains and associated funerary objects to The Chickasaw Nation.

Determinations Made by the Tennessee Valley Authority

Officials of TVA have determined that:

• Pursuant to 25 U.S.C. 3001(9), the human remains described in this notice represent the physical remains of 292 individuals of Native American ancestry.

• Pursuant to 25 U.S.C. 3001(3)(A), the 2,637 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Pursuant to 43 CFR 10.11(c)(1)(i), at the time of excavation of the human remains and associated funerary objects, the land from which the cultural items were removed was not the tribal land of any federally recognized Indian tribe.

• Pursuant to 43 CFR 10.11(c)(1)(ii), the following tribes are aboriginal to the area from which the cultural items were excavated: Cherokee Nation, Eastern Band of Cherokee Indians, and the United Keetoowah Band of Cherokee Indians in Oklahoma. None of these tribes agreed to accept control of the human remains or associated funerary objects.

• Pursuant to 43 CFR 10.11(c)(2)(i), TVA has decided to transfer control of the culturally unidentifiable human remains to The Chickasaw Nation.

• Pursuant to 43 CFR 10.11(c)(4), TVA has decided to transfer control of the culturally unidentifiable associated funerary objects to The Chickasaw Nation.

Additional Requestors and Disposition

Representatives of any federally recognized Indian tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by October 3, 2016. After that date, if no additional requestors have come forward, transfer of control of the human remains and associated funerary objects to The Chickasaw Nation may proceed.

TVA is responsible for notifying the Alabama-Coushatta Tribe of Texas (previously listed as the Alabama-Coushatta Tribes of Texas); Alabama-Quassarte Tribal Town; Cherokee Nation; Coushatta Tribe of Louisiana; Eastern Band of Cherokee Indians; Eastern Shawnee Tribe of Oklahoma; Poarch Band of Creeks (previously listed as the Poarch Band of Creek Indians of Alabama); The Chickasaw Nation; The Choctaw Nation of Oklahoma; The Muscogee (Creek) Nation; Thlopthlocco Tribal Town; and the United Keetoowah Band of Cherokee Indians in Oklahoma that this notice has been published.

Dated: August 10, 2016.
Melanie O'Brien,
Manager, National NAGPRA Program.

[FR Doc. 2016-21003 Filed 8-31-16; 8:45 am]

BILLING CODE 4312-50-P